DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White Comprehensive AIDS Resources Emergency Act of 1990-Title IV (OMB #0915-0206)—Extension

This is a request for extension of the reporting system of the Ryan White Comprehensive AIDS Resources Emergency (CARE) Act of 1990, Title IV as amended by the Ryan White CARE Act Amendments of 1996. It authorizes a reporting system to collect information from grantees and the service providers that are their subcontractors as governed under Section 2671 of the Public Health Service (PHS) Act (42 USC 300ff-71).

Title IV provides support for coordinated HIV services and access to research for children, youth, women, and families. It supports efforts to develop comprehensive, coordinated, culturally competent, family-centered systems of care and to provide access to research for those infected or affected by HIV infection. The Title IV program supports a broad variety of interventions in health care delivery that are designed to link clients receiving health care to other essential and supporting services and to clinical research. Grants are made to public and private non-profit health centers and other appropriate public or non-profit private entities that are linked to a comprehensive health care system. This system includes clinical research for children, youth, and women. The HIV/AIDS Bureau (HAB) within HRSA administers funds for Title IV of the CARE Act.

There are 53 grantees under Title IV's Children, Youth, Women and Families Program, with approximately 125 affiliated service providers, for a total of 178 entities who report information about the clients they serve and the services they provide. Grantees are located in 27 States, Puerto Rico and the District of Columbia.

Estimated Burden Hours
Form name | No. of respondents | Responses per respondent | Total responses | Hrs. per response | Total burden hours
Designation of Local Reporting Entitles Table 1A | 53 | 1 | 53 | .25 | 13.25
Local Network Profile Table 1B | 178 | 1 | 178 | .5 | 89
Person-based Demographic and Clinical Status Summary Table 2 | 178 | 1 | 178 | 30 | 5,340
Service Utilization Summary Table 3 | 178 | 1 | 178 | 20 | 3,560
Prevention, Outreach, and Education Activities Table 4 | 178 | 1 | 178 | 4 | 712
Total | 178 | 1 | 178 | 54.75 | 9,746

Send comments to Susan G. Queen, Ph.D., HRSA Reports Clearance Officer, Room 14-33, Parklawn Building, 5600 Fishers Lane, Rockville, MD 20857. Written comments should be received within 60 days of this notice.

Dated: July 7, 2000.
Jane Harrison,
Director, Division of Policy Review and Coordination.

[FR Doc. 00-17812 Filed 7-13-00; 8:45 am]

BILLING CODE 4160-15-P